DEPARTMENT OF LABOR

Office of Federal Contract Compliance Programs

Proposed Renewal of the Approval of Information Collection Requirements; Comment Request

ACTION: Notice.

SUMMARY: The Department of Labor (DOL), as part of its continuing effort to reduce paperwork and respondent burden, conducts a pre-clearance consultation program to provide the general public and Federal agencies with an opportunity to comment on proposed and/or continuing collections of information in accordance with the Paperwork Reduction Act of 1995. The program helps ensure that requested data can be provided in the desired format, reporting burden (time and financial resources) is minimized, collection instruments are clearly understood, and the impact of collection requirements on respondents can be properly assessed. The Office of Federal Contract Compliance Programs (OFCCP) is soliciting comments concerning its proposal to obtain approval from the Office of Management and Budget (OMB) for renewal of the information collection for its construction program which includes the recordkeeping and reporting requirements associated with the program. This request includes two information collection instruments: the construction compliance review scheduling letter and itemized listing (collectively referred to as the “construction scheduling letter”) and the Construction Contract Award Notification Requirement Form (CC-314). OFCCP proposes changes to the currently authorized construction scheduling letter and CC-314. The current OMB approval for the construction scheduling letter and CC-314 expires on July 31, 2024. A copy of the proposed information collection request can be obtained by contacting the office listed below in the FOR FURTHER INFORMATION CONTACT section of this notice or by accessing it at www.regulations.gov.

DATES: Written comments must be submitted to the office listed in the addresses section below on or before April 26, 2024.

ADDRESSES: You may submit comments by any of the following methods:

Electronic Comments: The Federal eRulemaking portal at www.regulations.gov. Follow the instructions found on that website for submitting comments.

Mail, Hand Delivery, Courier: Addressed to Tina T. Williams, Acting Deputy Director of OFCCP and Director of Policy & Program Development, Office of Federal Contract Compliance Programs, 200 Constitution Avenue NW, Room C-3325, Washington, DC 20210.

Instructions: Please submit one copy of your comments by only one method. For faster submission, we encourage commenters to transmit their comment electronically via the www.regulations.gov website. Comments that are mailed to the address provided above must be postmarked before the close of the comment period. All submissions must include OFCCP's name for identification. Comments submitted in response to the notice, including any personal information provided, become a matter of public record and will be posted on www.regulations.gov. Comments will also be summarized and/or included in the request for OMB approval of the information collection request.

FOR FURTHER INFORMATION CONTACT: Tina T. Williams, Acting Deputy Director of OFCCP and Director of Policy & Program Development, Office of Federal Contract Compliance Programs, 200 Constitution Avenue NW, Room C-3325, Washington, DC 20210. Telephone: (202) 693-0103 or toll free at 1-800-397-6251. If you are deaf, hard of hearing, or have a speech disability, please dial 7-1-1 to access telecommunications relay services. Copies of this notice may be obtained in alternative formats (large print, braille, audio recording) upon request by calling the numbers listed above.

SUPPLEMENTARY INFORMATION:

I. Background

OFCCP administers and enforces the three equal employment opportunity authorities listed below:

• Executive Order 11246, as amended (E.O. 11246);

• Section 503 of the Rehabilitation Act of 1973, as amended (section 503); and

• Vietnam Era Veterans' Readjustment Assistance Act of 1974, as amended (VEVRAA).

These authorities prohibit employment discrimination by Federal contractors and subcontractors and require them to take affirmative action to ensure that equal employment opportunities are available regardless of race, color, religion, sex, sexual orientation, gender identity, national origin, disability, or status as a protected veteran. Additionally, Federal contractors and subcontractors are prohibited from discriminating against applicants and employees for asking about, discussing, or sharing information about their pay or, in certain circumstances, the pay of their co-workers.

E.O. 11246 applies to Federal contractors and subcontractors and to federally assisted construction contractors holding a Government contract in excess of $10,000, or Government contracts that have, or can reasonably be expected to have, an aggregate total value exceeding $10,000 in a 12-month period. E.O. 11246 also applies to government bills of lading, depositories of Federal funds in any amount, and to financial institutions that are issuing and paying agents for U.S. savings bonds.

Section 503 prohibits Federal contractors and subcontractors from discriminating in employment against individuals with disabilities. It also requires Federal contractors and subcontractors to take affirmative action to ensure equal employment opportunity for individuals with disabilities. The Section 503 requirements apply to businesses with a direct Federal construction contract of more than $15,000. If the construction contractor has at least 50 employees and a single contract of $50,000 or more, then it must also develop a section 503 affirmative action program (AAP), as described in 41 CFR 60-741, subpart C.

VEVRAA prohibits Federal contractors and subcontractors from discriminating in employment against protected veterans. It also requires Federal contractors and subcontractors to take affirmative action to ensure equal employment opportunity for protected veterans. The VEVRAA requirements apply to businesses with a direct Federal construction contract of $150,000 or more. If the construction contractor has at least 50 employees and a single contract of $150,000 or more, then it must also develop a VEVRAA AAP, as described in 41 CFR 60-300, subpart C.

This information collection request (ICR) seeks to renew the recordkeeping, reporting, third party disclosure, and other requirements for construction contractors. OFCCP seeks to renew its existing construction scheduling letter. This is the document contractors receive notifying them that they have been selected to undergo a construction compliance evaluation. OFCCP proposes changes to the construction scheduling letter to strengthen OFCCP's construction program and increase the effectiveness of OFCCP's construction compliance evaluations.

OFCCP also seeks to renew the CC-314 form. The CC-314 is the form that covered construction contractors submit to OFCCP notifying the agency of new contract awards that exceed $10,000. OFCCP proposes adding additional information to the form which will increase the utility of the collection. OFCCP also proposes updating our help line call in information and other minor language changes on the CC-314 for clarity.

II. Review Focus

OFCCP is particularly interested in comments that:

• Evaluate the proposed changes to the construction scheduling letter and CC-314;

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology.

III. Current Actions

OFCCP seeks the approval of this information collection in order to carry out its responsibility to enforce the nondiscrimination and affirmative action provisions of the three authorities it administers.

Type of Review: Renewal.

Agency: Office of Federal Contract Compliance Programs.

Title: Office of Federal Contract Compliance Programs Construction Recordkeeping and Reporting Requirements.

OMB Number: 1250-0001.

Agency Number: None.

Affected Public: Business or other for-profit entities.

Total Respondents: 9,982.

Total Annual Responses: 29,162.

Average time per response: Reviews with direct federal contracts: 36.4 hours; Reviews with federally assisted contracts: 19.7 hours; CC-314 form: .63 hours.

Estimated Total Burden Hours: 136,211.

Frequency: On occasion.

Total Monetized Burden Cost: $10,371,086.

Total Burden Costs to Federal Government: $192,624.

Comments submitted in response to this notice will be summarized and/or included in the request for OMB approval of the information collection request; they will also become a matter of public record.

Tina T. Williams,
Acting Deputy Director of OFCCP and Director of Policy & Program Development, Office of Federal Contract Compliance Programs.

[FR Doc. 2024-03808 Filed 2-23-24; 8:45 am]

BILLING CODE 4510-CM-P